DEPARTMENT OF DEFENSE

Department of the Navy

Information on Surplus Land at a Military Installation Designated for Disposal: Naval Air Station, Brunswick, ME—Topsham Annex

AGENCY: Department of the Navy, DoD.

ACTION: Notice.

SUMMARY: This notice provides information on the surplus property at Naval Air Station (NAS), Brunswick, ME—Topsham Annex.

FOR FURTHER INFORMATION CONTACT: Ms. Kimberly Kesler, Director, Base Realignment and Closure Program Management Office, 1455 Frazee Road, San Diego, CA 92108-4310, telephone 619-532-0993, or Mr. David Drozd, Director, Base Realignment and Closure Program Management Office, Northeast, 4911 South Broad Street, Philadelphia, PA 19112-1303, telephone 215-897-4909.

SUPPLEMENTARY INFORMATION: In 2005, NAS, Brunswick, ME, was designated for closure under the authority of the Defense Base Closure and Realignment Act of 1990, Public Law 101-510, as amended (the Act). Pursuant to this designation, on January 23, 2006, land and facilities at this installation were declared excess to the Department of Navy (DON) and available to other Department of Defense components and other federal agencies. The DON has evaluated all timely Federal requests and has made a decision on property required by the Federal Government.

Notice of Surplus Property. Pursuant to paragraph (7)(B) of Section 2905(b) of the Act, as amended by the Base Closure Community Redevelopment and Homeless Assistance Act of 1994, the following information regarding the redevelopment authority for surplus property at NAS, Brunswick, ME—Topsham Annex is published in the Federal Register.

Redevelopment Authority. The local redevelopment authority for NAS, Brunswick, ME—Topsham Annex is the Topsham Local Redevelopment Authority. The point of contact is Mr. Gary Brown, Town Manager, Town of Topsham, 22 Elm Street, Topsham, ME 04086, telephone 207-725-5821.

Surplus Property Description. The following is a list of the land and facilities at NAS, Brunswick—Topsham Annex that are surplus to the needs of the Federal Government.

a. Land. NAS, Brunswick, ME—Topsham Annex consists of approximately 74 acres of improved and unimproved fee simple land located within Sagadahoc County and the City of Topsham; however, approximately 44 acres of this land is improved with 177 units of housing formerly known as “Capehart Housing” and a maintenance building, which are currently outleased to Northeast Housing LLC. Lease expires October 31, 2054. In general, the area will be available when the installation closes in September 2011.

b. Buildings. The following is a summary of the buildings and other improvements located on the above-described land that will also be available when the installation closes. Property numbers are available on request.

(1) Administrative/office facility (6 structures). Comments: Approximately 34,435 square feet.

(2) Miscellaneous facilities (4 structures). Comments: Approximately 41,281 square feet. Includes commissary store, fire station, storage, etc.

(3) Paved areas (roads and surface areas). Comments: Approximately 52,220 square yards consisting of roads and other similar pavements. Approximately 35,916 square yards consisting of other surface areas, i.e., parking areas and sidewalks.

(4) Utility facilities (approximately 3 structures) Comments: Measuring systems vary; combined storm drainage and water.

Not included in this notice of surplus are the Housing Quarters, formerly know as “Capehart Housing” (51 structures, 177 units) and a maintenance building (pumping station, 529 square feet). These facilities are owned by Northeast Housing LLC.

Redevelopment Planning. Pursuant to section 2905(b)(7)(F) of the Act, the Topsham Local Redevelopment Authority (the LRA) will conduct a community outreach effort with respect to the surplus property and will publish, within 30 days of the date of this notice, in a newspaper of general circulation in the communities within the vicinity of NAS, Brunswick—Topsham Annex, Topsham, ME, the time period during which the LRA will receive notices of interest from State and local governments, representatives of the homeless, and other interested parties. This publication shall include the name, address, and telephone number of the point of contact for the LRA who can provide information on the prescribed form and contents of the notices of interest.

Dated: December 22, 2006.
M.A. Harvison,
Lieutenant Commander, Judge Advocate General's Corps, U.S. Navy, Federal Register Liaison Officer.

[FR Doc. E6-22460 Filed 12-29-06; 8:45 am]

BILLING CODE 3810-FF-P